NATIONAL FOUNDATION ON THE ARTS AND THE HUMANITIES

Submission for OMB Review; Comment Request

April 6, 2011.

The National Endowment for the Arts, on behalf of the Federal Council on the Arts and the Humanities, has submitted the following public information collection request (ICR) to the Office of Management and Budget (OMB) for review and approval in accordance with the Paperwork Reduction Act of 1995 (Pub. L. 104-13, 44 U.S.C. Chapter 35). Copies of this ICR, with applicable supporting documentation, may be obtained by calling the National Endowment for the Arts' Indemnity Administrator, Alice Whelihan (202/682-5574).

Comments should be sent to Office of Information and Regulatory Affairs, Attn: OMB Desk Officer for the National Endowment for the Arts, Office of Management and Budget, Room 10235, Washington, DC 20503 (202/395-6466), within thirty days of this publication in the Federal Register.

The OMB is particularly interested in comments which:

—Evaluate whether the proposed collection of information is necessary for the proper performance of the functions of the agency, including whether the information will have practical utility;

—Evaluate the accuracy of the agency's estimate of the burden of the proposed collection of information including the validity of the methodology and assumptions used;

—Enhance the quality, utility and clarity of the information to be collected; and

—Minimize the burden of the collection of information on those who are to respond, including through the use of appropriate automated, electronic, mechanical or other technological collection techniques or other forms of information technology, e.g., permitting electronic submissions of responses.

Agency: National Endowment for the Arts.

Title: Application for Domestic Indemnification.

OMB Number: 3135-0123.

Frequency: Every three years.

Affected Public: Non-profit, tax exempt organizations, and governments.

Number of Respondents: Estimate 50 per year.

Estimated Time per Respondent: 44 hours.

Estimate Cost per Respondent: $1,800.

Total Burden Hours: 2,200.

Total Annualized Capital/Startup Costs: 0.

Total Annual Costs (Operating/Maintaining Systems or Purchasing Services): $80,000.

Description: This application form is used by non-profit, tax-exempt organizations (primarily museums), individuals and governmental units to apply to the Federal Council on the Arts and the Humanities (through the National Endowment for the Arts) for indemnification of eligible works of art and artifacts, borrowed from public and private collections in the United States for exhibition in the United States. The indemnity agreement is backed by the full faith and credit of the United States. In the event of loss or damage to an indemnified object, the Federal Council certifies the validity of the claim and requests payment from Congress. 20 U.S.C. 973 et seq. requires such an application and specifies information which must be supplied. This statutory requirement is implemented by regulation at 45 CFR ll60.4.

Kathleen Edwards,
Director, Administrative Services.

[FR Doc. 2011-8629 Filed 4-11-11; 8:45 am]

BILLING CODE 7536-01-P